DEPARTMENT OF ENERGY

Federal Energy Regulatory Commission

[Project No. 13867-000]

Clean River Power 11, LLC; Notice of Preliminary Permit Application Accepted for Filing and Soliciting Comments, Motions To Intervene, and Competing Applications

November 16, 2010.

On October 15, 2010, Clean River Power 11, LLC filed an application for a preliminary permit, pursuant to section 4(f) of the Federal Power Act (FPA), proposing to study the feasibility of the Swamp Creek Hydroelectric Project (Swamp Creek project) to be located on Swamp Creek in the vicinity of Glacier, in Whatcom County, Washington. The sole purpose of a preliminary permit, if issued, is to grant the permit holder priority to file a license application during the permit term. A preliminary permit does not authorize the permit holder to perform any land-disturbing activities or otherwise enter upon lands or waters owned by others without the owners' express permission.

The proposed project will consist of the following: (1) A 50-foot-long, 8-foot-high reinforced concrete diversion weir on Swamp Creek; (2) a 45-foot-long, 15-foot-wide, 12-foot-high reinforced concrete intake structure adjacent to the weir with a trash rack, fish screen, and closure gate; (3) a 0.15-acre impoundment created by the weir; (4) a 5,200-foot-long, 3-foot-diameter steel penstock from the intake structure to the powerhouse; (5) a 60-foot-long, 40-foot-wide reinforced concrete powerhouse containing one horizontal impulse turbine with a capacity of 3.5 megawatts (MW); (6) a 40-foot-long, concrete and rip-rap-lined tailrace channel to return flows to Swamp Creek; (7) a 4.6/55 kilovolt (kV) three stage step up transformer; (8) an approximately 6.75-mile-long, 55-kV transmission line which will tie into an undetermined interconnection; and (9) appurtenant facilities. The estimated annual generation of the Swamp Creek project would be 15.0 gigawatt-hours.

Applicant Contact: Ramya Swaminthan, Clean River Power 11, LLC, 33 Commercial St., Gloucester, MA 01930; phone: (978) 283-2822.

FERC Contact: Ryan Hansen, (202) 502-8074.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13867-000) in the docket number field to access the document. For assistance, contact FERC Online Support.

Kimberly D. Bose,
Secretary.

[FR Doc. 2010-29443 Filed 11-22-10; 8:45 am]

BILLING CODE 6717-01-P